DEPARTMENT OF TRANSPORTATION

Federal Motor Carrier Safety Administration

[Docket No. FMCSA-2025-0014]

Qualification of Drivers; Exemption Applications; Epilepsy and Seizure Disorders

AGENCY: Federal Motor Carrier Safety Administration (FMCSA), Department of Transportation (DOT).

ACTION: Notice of applications for exemptions; request for comments; correction.

SUMMARY: FMCSA corrects its January 28, 2026, notice requesting comments on 63 individuals' applications for an exemption from the prohibition in the Federal Motor Carrier Safety Regulations (FMCSRs) against persons with a clinical diagnosis of epilepsy or any other condition that is likely to cause a loss of consciousness or any loss of ability to control a commercial motor vehicle (CMV) to drive in interstate commerce. An individual's name was misspelled, and this notice corrects that error.

DATES: This correction is effective February 26, 2026.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are from 8:30 a.m. to 5 p.m. ET Monday through Friday, except Federal holidays. If you have questions regarding viewing materials in the docket, contact Dockets Operations, (202) 366-9826.

SUPPLEMENTARY INFORMATION: On January 28, 2026 (91 FR 3775), FMCSA published a notice of applications for exemption in which the Agency requested comment on the 63 individuals' applications for an exemption from the requirement that interstate CMV drivers have “no established medical history or clinical diagnosis of epilepsy or any other condition which is likely to cause loss of consciousness or any loss of ability to control a CMV.” If granted, the exemptions would enable these individuals who have had one or more seizures and are taking anti-seizure medication to operate CMVs in interstate commerce. The name of an individual listed in the notice is misspelled. Through this notice, FMCSA corrects the error in the spelling of their name.

In FR Doc. 2026-01678 appearing on page 3779 in the Federal Register on January 28, 2026, the following correction is made:

1. On page 3779, in the second column, the individual's name, “Scottie Smith (ME)” is corrected to read “Scotti Smith (ME).”

Issued under authority delegated in 49 CFR 1.87.
Larry W. Minor,
Associate Administrator for Policy.

[FR Doc. 2026-03839 Filed 2-25-26; 8:45 am]

BILLING CODE 4910-EX-P